SECURITIES AND EXCHANGE COMMISSION

17 CFR Parts 229, 240, and 249

[Release Nos. 33-9148A; 34-63029A; File No. S7-24-10]

RIN 3235-AK75

Disclosure for Asset-Backed Securities Required by Section 943 of the Dodd-Frank Wall Street Reform and Consumer Protection Act

AGENCY: Securities and Exchange Commission.

ACTION: Proposed rule; correction.

SUMMARY: The Securities and Exchange Commission published a document in the Federal Register of October 13, 2010, concerning Disclosure for Asset-Backed Securities Required by Section 943 of the Dodd-Frank Wall Street Reform and Consumer Protection Act. The document contained an incorrect reference to § 249.1300. This correction is being published to correct the reference.

FOR FURTHER INFORMATION CONTACT: Rolaine Bancroft, Attorney-Advisor, in the Office of Rulemaking, at (202) 551-3430, Division of Corporation Finance, U.S. Securities and Exchange Commission, 100 F Street, NE., Washington, DC 20549-3628 or, with respect to proposed Rule 17g-7, Joseph I. Levinson, Special Counsel, at (202) 551-5598; Division of Trading and Markets, U.S. Securities and Exchange Commission, 100 F Street, NE., Washington, DC 20549-3628.

Correction

In the Federal Register of October 13, 2010, in FR Doc. 2010-25361, the reference “249.1300” is corrected to read “249.1400” in the following places:

On page 62719, in footnote 7 in the first column, two lines from the bottom;

On page 62735, in the first column, two lines from the top;

On page 62736, in the first column, thirty-one lines from the top;

On page 62736, in the first column, eight lines from the bottom;

On page 62736, in the first column, three lines from the bottom;

On page 62736, in the second column, two lines from the top; and

On page 62736, in the second column, six lines from the top.

Dated: October 19, 2010.
Elizabeth M. Murphy,
Secretary.

[FR Doc. 2010-26810 Filed 10-22-10; 8:45 am]

BILLING CODE 8011-01-P